DEPARTMENT OF LABOR

Employment and Training Administration

[NAFTA-04106]

United States Leather, Lackawanna Leather, Including Leased Workers of Snelling Personnel Services Employed at United States Leather, Lackawanna Leather, El Paso, TX; Amended Certification Regarding Eligibility To Apply for NAFTA-Transitional Adjustment Assistance

In accordance with Section 250(A), Subchapter D, Chapter 2, Title II, of the Trade Act of 1974 (19 USC 2273), the Department of Labor issued a Certification for NAFTA Transitional Adjustment Assistance on October 6, 2000, applicable to workers of United States Leather, Lackawanna Leather, El Paso, Texas. The notice was published in the Federal Register on November 1, 2000 (65 FR 65331).

At the request of the State agency, the Department reviewed the certification for workers of the subject firm. New information shows that some workers of United States Leather, Lackawanna Leather were leased from Snelling Personnel Services to produce leather hides used for the production of car seats at the El Paso, Texas facility. Information also shows that workers separated from employment at the subject firm had their wages reported under a separate unemployment insurance (UI) tax account for Snelling Personnel Services.

Based on these findings, the Department is amending the certification to include workers of Snelling Personnel Services leased to United States Leather, Lackawanna Leather, El Paso, Texas.

The intent of the Department's certification is to include all workers of United States Leather, Lackawanna Leather adversely affected by imports from Mexico.

The amended notice applicable to NAFTA-04106 is hereby issued as follows:

All workers of United States Leather, Lackawanna Leather, El Paso, Texas and leased workers of Snelling Personnel Services, El Paso, Texas engaged in employment related to the production of leather hides used for the production of car seats for United States Leather, Lackawanna Leather, El Paso, Texas who became totally or partially separated from employment on or after August 14, 1999 through October 6, 2002 are eligible to apply for NAFTA-TAA under Section 250 of the Trade Act of 1974.

Signed at Washington, DC this 19th day of December, 2000.
Linda G. Poole,
Certifying Officer, Division of Trade Adjustment Assistance.

[FR Doc. 00-33066 Filed 12-27-00; 8:45 am]

BILLING CODE 4510-30-M